DEPARTMENT OF THE INTERIOR

Bureau of Indian Affairs

[156A2100DD/AAKC001030/A0A501010.999900.253G]

Renewal of Agency Information Collection for the Bureau of Indian Education Tribal Education Department Grant Program; Request for Comments

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for the Tribal Education Department Grant Program, authorized by OMB Control Number 1076-0185. The information collection will expire November 30, 2015.

DATES: Submit comments on or before November 2, 2015.

ADDRESSES: You may submit comments on the information collection to Ms. Wendy Greyeyes, Bureau of Indian Education, Office of the BIE Director, 1849 C Street NW., MS-4657-MIB, Washington, DC 20240; email Wendy.Greyeyes@bie.edu.

FOR FURTHER INFORMATION CONTACT: Wendy Greyeyes, (202) 208-5810.

SUPPLEMENTARY INFORMATION:

I. Abstract

The Bureau of Indian Education (BIE) is seeking renewal of the approval for information collection conducted under 25 U.S.C. 2020, for the solicitation of grant proposals from Federally-recognized tribes and their Tribal Education Departments (TEDs) that will fund program goals to promote tribal education capacity building to include:

• Development and enforcement of tribal educational codes, including tribal education policies and tribal standards applicable to curriculum, personnel, students, facilities, and support programs;

• Facilitate tribal control in all matters relating to the education of Indian children on reservations (and on former Indian reservations in Oklahoma);

• Provide development of coordinated educational programs (including all preschool, elementary, secondary, and higher or vocational educational programs) on reservations (and on former Indian reservations in Oklahoma) by encouraging tribal administrative support of all Bureau-funded educational programs, as well as encouraging tribal cooperation and coordination with entities carrying out all educational programs receiving financial support from other Federal agencies, State agencies, or private entities.

A response is required to obtain or retain a benefit.

II. Request for Comments

The BIE requests your comments on the collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0185.

Title: Tribal Education Department Grant Program.

Brief Description of Collection: The Secretary of the Interior, through the Bureau of Indian Education, may solicit grant proposals from federally-recognized tribes and their Tribal Education Departments (TEDs) for projects defined under 25 U.S.C. 2020. These funds are necessary to assist TEDs to improve educational outcomes for students and improve efficiencies and effectiveness by planning and coordinating all educational programs for BIE-funded schools.

Type of Review: Extension without change of a currently approved collection.

Respondents: Federally-recognized tribes and their Tribal Education Departments (TEDs).

Estimated Number of Respondents: 64.

Frequency of Respondents: Once the grant has been awarded, each awardee will be responsible for monthly meetings, quarterly reports, followed by an annual report.

Estimated Time per Request: Ranges from one hour to 20 hours.

Estimated Total Annual Hour Burden: 2,000.

Estimated Total Annual Non-Hour Dollar Cost: $40,626.

Elizabeth K. Appel,
Director, Office of Regulatory Affairs and Collaborative Action—Indian Affairs.

[FR Doc. 2015-21561 Filed 8-31-15; 8:45 am]

BILLING CODE 4337-15-P